SMALL BUSINESS ADMINISTRATION

Region III Regulatory Fairness Board; Meeting

The Small Business Administration Region III Regulatory Fairness Board and the SBA Office of the National Ombudsman, will hold a Public Roundtable November 13, 2001, at 1 p.m. at Harrisburg City Council, 10 North 2nd Street, Room 101, Harrisburg, PA 17101, to provide small business owners and representatives of trade associations with an opportunity to share information concerning the regulatory enforcement and compliance environment.

Anyone wishing to attend or to make a presentation must contact Ms. Susan Harris, in writing by letter or fax no later than November 6, 2001, in order to be put on the agenda. Susan Harris, Philadelphia District Office, U.S. Small Business Administration, Robert N C Nix Sr., Federal Building 900 Market Street, 5th Floor, Philadelphia, PA 19107, Phone (215) 580-2709, Fax (215) 580-2759.

Steve Tupper,
Committee Management Officer.

[FR Doc. 01-26740 Filed 10-23-01; 8:45 am]

BILLING CODE 8025-01-P